DEPARTMENT OF THE INTERIOR

Fish and Wildlife Service

Endangered Species Recovery Permit Application

AGENCY: Fish and Wildlife Service, Interior.

ACTION: Notice of receipt of a permit application.

SUMMARY: The following applicant has applied for a scientific research permit to conduct certain activities with endangered species pursuant to section 10(a)(1)(A) of the Endangered Species Act (16 U.S.C. 1531 et seq.). The U.S. Fish and Wildlife Service (“we”) solicits review and comment from local, State, and Federal agencies, and the public on the following permit request.

DATES: Comments on this permit application must be received on or before April 5, 2004.

ADDRESSES: Written data or comments should be submitted to the U.S. Fish and Wildlife Service, Chief, Endangered Species, Ecological Services, 911 NE. 11th Avenue, Portland, Oregon 97232-4181 (fax: (503) 231-6243). Please refer to the permit number when submitting comments. All comments received, including names and addresses, will become part of the official administrative record and may be made available to the public.

FOR FURTHER INFORMATION CONTACT: Documents and other information submitted with this application are available for review, subject to the requirements of the Privacy Act and Freedom of Information Act, by any party who submits a written request for a copy of such documents within 30 days of the date of publication of this notice to the address above (telephone: 503-231-2063). Please refer to the permit number when requesting copies of documents.

SUPPLEMENTARY INFORMATION:

Permit No. TE-702631

Applicant: Regional Director, Region 1, U.S. Fish and Wildlife Service, Portland, Oregon.

The permittee requests an amendment to take the island fox (Urocyon littoralis) in conjunction with recovery efforts throughout the range of the species for the purpose of enhancing its propagation and survival.

We solicit public review and comment on this recovery permit application.

Dated: February 11, 2004.
David B. Allen,
Regional Director, Region 1, U.S. Fish and Wildlife Service.

[FR Doc. 04-4903 Filed 3-4-04; 8:45 am]

BILLING CODE 4310-55-P